OCCUPATIONAL SAFETY AND HEALTH REVIEW COMMISSION

Submission for OMB Review; Comment Request

AGENCY: Occupational Safety and Health Review Commission (OSHRC)

SUMMARY: The Executive Director, OSHRC invites comments on the submission for OMB review as required by the Paperwork Reduction Act of 1995.

DATES: Interested persons are invited to submit comments on or before September 7, 2000.

ADDRESSES: Written comments should be addressed to Stuart Shapiro, Office of Management and Budget, Room 10202, New Executive Office Building, Washington, D.C. 20503 or should be electronically mailed to the internet address Stuart_Shapiro@omb.eop.gov.

SUPLEMENTARY INFORMATION: Section 3506 of the Paperwork Reduction Act of 1995 (44 U.S.C. requires that the Office of Management and Budget (OMB) provide interested Federal agencies and the public opportunity to comment on information collection requests. OMB may amend or waive the requirement for public consultation to the extent that public participation in the approval process would defeat the purpose of the information collection, violate State or Federal law, or substantially interfere with any agency's ability to perform its statutory obligations. The Executive Director published a notice containing proposed information collection request in the Federal Register date May 31, 2000. The proposed information collection included: (1) Type of review requested, (2) Title, (3) Summary of the collection, (4) Description of the need for, and proposed use of, the information, (5) Respondents and frequency of collection, and (6) Reporting and recordkeeping burden. OMB invites public comment.

Dated: August 3, 2000.
Patricia A. Randle,
Executive Director, Occupational Safety and Health Administration.

Type of Review: New.

Title: Evaluation of “E-Z Trial.

OMB Number: New.

Frequency: Once.

Affected Public: Employers and/or their representatives, and labor organizations who have been involved in cases with the Review Commission.

Reporting and Recordkeeping Hour Burden:

Responses: 100

Burden hours: 75

Abstract: The Occupational Safety and Health Review Commission (OSHRC) published a rule in the Federal Register dated August 14, 1995 establishing the “E-Z Trial” program. The rule was subsequently amended to eliminate the sunset provisions in the original rule and to revise the procedural rules governing the “E-Z Trial” program effective July 31, 1997. We are evaluating the program as modified effective July 31, 1997. The evaluation will involve surveying employers and employer representatives regarding their satisfaction with the fairness and efficiency of the process. The evaluation will also analyze data on the rate at which “E-Z Trial” cases go to a hearing, and on the length and cost of hearings. Finally, the evaluation will study the cycle times of these cases as compared to those of conventional cases. Information will also be gathered from Occupational Safety and Health Administration (OSHA) staff and from the Solicitor of Labor.

[FR Doc. 00-20080 Filed 8-8-00; 8:45 am]

BILLING CODE 7600-01-P